DEPARTMENT OF DEFENSE

Marine Corps; Privacy Act of 1974; System of Records

AGENCY: U.S. Marine Corps, DoD.

ACTION: Notice to alter a system of records.

SUMMARY: The U.S. Marine Corps proposes to alter a system of records notice in its inventory of record systems subject to the Privacy Act of 1974 (5 U.S.C. 552a), as amended.

DATES: This action will be effective on May 28, 2002, unless comments are received that would result in a contrary determination.

ADDRESSES: Send comments to the Head, FOIA and Privacy Act Section, Headquarters, U.S. Marine Corps, 2 Navy Annex, Washington, DC 20380-1775.

FOR FURTHER INFORMATION CONTACT: Ms. B. L. Thompson at (703) 614-4008 or DSN 224-4008.

SUPPLEMENTARY INFORMATION: The U.S. Marine Corps notices for records systems subject to the Privacy Act of 1974 (5 U.S.C. 552a), as amended, have been published in the Federal Register and are available from the address above.

The proposed system report, as required by 5 U.S.C. 552a(r) of the Privacy Act was submitted on April 17, 2002, to the House Committee on Government Reform, the Senate Committee on Governmental Affairs, and the Office of Management and Budget (OMB) pursuant to paragraph 4c of Appendix I to OMB Circular No. A-130, ‘Federal Agency Responsibilities for Maintaining Records About Individuals,’ dated February 8, 1996, (61 FR 6427, February 20, 1996).

Dated: April 22, 2002.
Patricia L. Toppings,
Alternate OSD Federal Register Liaison Officer, Department of Defense.

MMN00016

System name:

Accident and Injury Reporting System (November 4, 1999, 64 FR 60174).

Changes:

* * * * *

Categories of individuals covered by the system:

Delete entry and replace with ‘Marine Corps military (to include recruits) or civilian personnel who are involved in accidents, injuries or illness which result in lost time, government or private property damage or destruction, personal injury or death.’

Categories of records in the system:

Delete entry and replace with ‘Individual’s name, Social Security Number, rank, type of injury, illness, or accident (such as training or motor vehicle), accident injury report, and any restriction of activities, if any.’

* * * * *

Purpose(s):

Add to entry ‘Information will be used as a management tool to improve accident prevention, training success rates, to prevent re-injury and reduce medical costs.’

* * * * *

Record source categories:

Add ‘excerpts from medical documents,’ to entry.

* * * * *

MMN00016

System name:

Accident and Injury Reporting System.

System location:

Organizational elements of the U.S. Marine Corps. U.S. Marine Corps official mailing addresses are incorporated into the Department of the Navy’s address directory, published as an appendix to the Navy's compilation of systems of records notices.

Categories of individuals covered by the system:

Marine Corps military (to include recruits) or civilian personnel who are involved in accidents, injuries or illness which result in lost time, government or private property damage or destruction, personal injury or death.

Categories of records in the system:

Individual's name, Social Security Number, rank, type of injury, illness, or accident (such as training or motor vehicle), accident injury report, and any restriction of activities, if any.

Authority for maintenance of the system:

5 U.S.C. 301, Departmental Regulations; 10 U.S.C. 5013, Secretary of the Navy; 10 U.S.C. 5041, Headquarters, Marine Corps; and E.O. 9397 (SSN).

Purpose(s):

To provide a record of all individuals involved in accidents for use in resolving the disposition of such accidents and to establishing appropriate safety programs. Information will be used as a management tool to improve accident prevention, training success rates, to prevent re-injury and reduce medical costs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Marine Corps compilation of systems of records notices apply to this system.

Policies and practices for storing, retrieving, accessing, retaining, and disposing of records in the system:

Storage:

Paper and electronic records.

Retrievability:

By name and Social Security Number.

Safeguards:

Paper files and computer terminals are located in limited access areas and handled only by authorized personnel who are properly screened, cleared and trained. Computer terminals are protected by password. System software contains partitions to limit access to appropriate organizational level. Authorized user list is maintained and updated by system administrator.

Retention and disposal:

Records maintained 5 years after incident, then destroyed.

System manager(s) and address:

Commanding officer of the activity in question. U.S. Marine Corps official mailing addresses are incorporated into the Department of the Navy's address directory, published as an appendix to the Navy's compilation of systems of records notices.

Notification procedure:

Individuals seeking to determine whether information about themselves is contained in this system should address written inquiries to the Commanding officer of the activity in question. U.S. Marine Corps official mailing addresses are incorporated into the Department of the Navy's address directory, published as an appendix to the Navy's compilation of systems of records notices.

Record access procedures:

Individuals seeking access to information about themselves contained in this system should address written inquiries to the Commanding officer of the activity in question. U.S. Marine Corps official mailing addresses are incorporated into the Department of the Navy's address directory, published as an appendix to the Navy's compilation of systems of records notices.

Contesting record procedures:

The USMC rules for contesting contents and appealing initial agency determinations are published in Secretary of the Navy Instruction 5211.5; Marine Corps Order P5211.2; 32 CFR part 701; or may be obtained from the system manager.

Record source categories:

Individual concerned, military police traffic accident investigation reports, accident injury reports, excerpts from medical documents, other records of the activity, witness, and other correspondents.

Exemptions claimed for the system:

None.

[FR Doc. 02-10281 Filed 4-25-02; 8:45 am]

BILLING CODE 5001-08-P